DEPARTMENT OF JUSTICE

Antitrust Division

Notice Pursuant to the National Cooperative Research and Production Act of 1993—AllSeen Alliance, Inc.

Notice is hereby given that, on September 2, 2014, pursuant to Section 6(a) of the National Cooperative Research and Production Act of 1993, 15 U.S.C. 4301 et seq. (“the Act”), AllSeen Alliance, Inc. (“AllSeen Alliance”) has filed written notifications simultaneously with the Attorney General and the Federal Trade Commission disclosing changes in its membership. The notifications were filed for the purpose of extending the Act's provisions limiting the recovery of antitrust plaintiffs to actual damages under specified circumstances. Specifically, Shanghai Fortune Techgroup Co., Ltd., Xuhui District, Shanghai, PEOPLE'S REPUBLIC OF CHINA; Vedams, Inc., San Jose, CA; Legrand France, Limoges, FRANCE; Microsoft Corporation, Redmond WA; Grid2Home, San Diego, CA; FreeWings Technologies Co., Ltd.; Yingzhou District, Ningbo, PEOPLE'S REPUBLIC OF CHINA; MachineShop, Inc., Boston, MA; ControlBEAM Digital Automation, Irvine, CA; Cloud of Things, Givat Brenner, ISRAEL; Revolv Inc., Boulder, CO; Shaspa GmbH, Boeblingen, GERMANY; Electrolux Home Products, Inc., Charlotte, NC; ISI Technology, Charleston, SC; Tellient, San Diego, CA; and Ping Identity, Denver, CO, have been added as parties to this venture.

No other changes have been made in either the membership or planned activity of the group research project. Membership in this group research project remains open, and AllSeen Alliance intends to file additional written notifications disclosing all changes in membership.

On January 29, 2014, AllSeen Alliance filed its original notification pursuant to Section 6(a) of the Act. The Department of Justice published a notice in the Federal Register pursuant to Section 6(b) of the Act on March 4, 2014 (79 FR 12223).

The last notification was filed with the Department on June 26, 2014. A notice was published in the Federal Register pursuant to Section 6(b) of the Act on July 23, 2014 (79 FR 42817).

Patricia A. Brink,
Director of Civil Enforcement, Antitrust Division.

[FR Doc. 2014-23144 Filed 9-29-14; 8:45 am]

BILLING CODE 4410-11-P